INTERNATIONAL TRADE COMMISSION

[USITC SE-14-008]

Sunshine Act Meeting Notice

AGENCY HOLDING THE MEETING: United States International Trade Commission

TIME AND DATE: March 25, 2014 at 10:30 a.m.

PLACE: Room 101, 500 E Street SW., Washington, DC 20436, Telephone: (202) 205-2000.

STATUS: Open to the public.

MATTERS TO BE CONSIDERED:

1. Agendas for future meetings: none.

2. Minutes.

3. Ratification List.

4. Vote in Inv. Nos. 731-TA-1140-1142 (Review)(Uncovered Innerspring Units from China, South Africa, and Vietnam). The Commission is currently scheduled to complete and file its determinations and views of the Commission on April 3, 2014.

5. Outstanding action jackets: none.

In accordance with Commission policy, subject matter listed above, not disposed of at the scheduled meeting, may be carried over to the agenda of the following meeting.

By order of the Commission.
Issued: March 18, 2014.
William R. Bishop,
Supervisory Hearings and Information Officer.

[FR Doc. 2014-06321 Filed 3-19-14; 11:15 am]

BILLING CODE 7020-02-P